DEPARTMENT OF JUSTICE

Notice of Lodging of Consent Decree Under the Comprehensive Environmental Response, Compensation and Liability Act

Under 28 CFR 50.7, notice is hereby given that on October 15, 2008, a proposed consent decree was lodged in United States v. MidAmerican Energy Co. and Iowa-Illinois Manor, LLC, Civil Action No. 08-416, in the United States District Court for the Southern District of Iowa.

The United States sought, pursuant to Sections 106 and 107 of the Comprehensive Environmental Response, Compensation and Liability Act (“CERCLA”), 42 U.S.C. 9606 & 9607, to recover costs incurred in response to releases of hazardous substances at the Iowa City Former Manufactured Gas Plant Superfund Site in Iowa City, Iowa (“the Site”), and to require the defendants, MidAmerican and Iowa-Illinois Manor, to perform EPA's selected remedy at the Site.

Under the terms of the proposed consent decree, MidAmerican and Iowa-Illinois Manor will perform the remedy for the Site as required in the proposed consent decree and pay $429,300.64 to the Superfund in payment of the United States' unreimbursed response costs. In return, the United States will grant MidAmerican and Iowa-Illinois Manor a covenant not to sue under CERCLA with respect to the Site.

The Department of Justice will receive for a period of thirty (30) days from the date of this publication comments relating to the proposed consent decree. Comments should be addressed to the Assistant Attorney General, Environment and Natural Resources Division, P.O. Box 7611, U.S. Department of Justice, Washington, DC 20044-7611, and should refer to the proposed consent decree with defendants MidAmerican and the Iowa Manor in United States v. MidAmerican Energy Company and Iowa-Illinois Manor, LLC, D.J. Ref. 90-11-3-09180. Public comments may be submitted by e-mail to the following e-mail address: pubcomment-ees.enrd@usdoj.gov.

The proposed consent decree may be examined at the Office of the United States Attorney, 110 East Court Avenue, Des Moines, IA 50309. During the public comment period, the Consent Decree may be examined on the following Department of Justice Web site: http://www.usdoj.gov/enrd/Consent_Decrees.html. A copy may be obtained upon request from the Consent Decree Library, P.O. Box 7611, U.S. Department of Justice, Washington, DC 20044-7611 or by faxing a request to Tonia Fleetwood, fax no. (202) 514-0097, phone confirmation number (202) 514-1547. In requesting a copy please refer to the referenced case and enclose a check in the amount of $20.75 (25 cents per page reproduction costs), payable to the U.S. Treasury.

Robert E. Maher, Jr.,
Assistant Section Chief, Environmental Enforcement Section, Environment and Natural Resources Division.

[FR Doc. E8-25236 Filed 10-22-08; 8:45 am]

BILLING CODE 4410-15-P